DEPARTMENT OF ENERGY

Federal Energy Regulatory Commission

[Docket No. IS08-405-000]

Dixie Pipeline Company; Notice of Extension of Time for Technical Conference

November 18, 2008.

On November 14, 2008, Dixie Pipeline Company (Dixie) and the protesting parties ¹ in the above-captioned proceeding (Joint Movants) filed a Joint Motion to Extend Date for Technical Conference.

¹ The protesting parties include Dow Hydrocarbon and Resources LLC; CITGO Petroleum Corporation; ConocoPhillips Company; Targa Midstream Services Limited Partnership and Targa Louisiana; and Crosstex NGL Marketing, L.P. and Crosstex Processing Services, LLC. Joint Movants state that the following intervenors and/or commenters do not oppose the motion: National Propane Gas Association, FerrellGas, L.P., BP Products North America Inc., and the South Carolina Department of Labor, Licensing and Regulation, Liquefied Petroleum Gas Board. Dixie further states that it informed an additional intervenor, Petrologistics Olefins LLC, of the instant motion, but as of the time it filed the motion, Dixie had not received a response.

In the order issued August 22, 2008,² the Commission established a technical conference in this proceeding. By notice issued October 3, 2008, the technical conference was scheduled for 9 a.m. on Thursday, October 23, 2008, at the Commission's offices. By further notice issued October 22, 2008, the conference was postponed at the request of Dixie and the protesting parties until November 20, 2008, at 9 a.m. at the Commission's offices.

² Dixie Pipeline Co., 124 FERC ¶ 61,175 (2008).

Joint Movants state that the parties are continuing to work toward a settlement of the issues in this proceeding and that they believe an additional extension of time for the technical conference will benefit the ongoing discussions. Joint Movants ask the Commission to further extend the date of the technical conference and agree to report their progress before December 19, 2008. Dixie states that, if the parties have not resolved the matter before that date, it will withdraw FERC Tariffs No. 92 and 93 and refile them at a later date to allow the parties time to confer.

Take notice that the Commission will convene the technical conference in this proceeding on Tuesday, December 16, 2008, at 9 a.m. (EST), in a room to be designated at the offices of the Federal Energy Regulatory Commission, 888 First Street, NE., Washington, DC 20426.

FERC conferences are accessible under section 508 of the Rehabilitation Act of 1973. For accessibility accommodations, please send an e-mail to accessibility@ferc.gov or call toll free 1-866-208-3372 (voice) or (202) 208-1659 (TTY), or send a FAX to (202) 208-2106 with the required accommodations.

All parties and staff are permitted to attend. For further information, please contact Jenifer Lucas at (202) 502-8362 or Jenifer.Lucas@ferc.gov.

Kimberly D. Bose,
Secretary.

[FR Doc. E8-27814 Filed 11-21-08; 8:45 am]

BILLING CODE 6717-01-P